DEPARTMENT OF THE TREASURY

Internal Revenue Service

26 CFR Part 1

[TD 9140]

RIN 1545-BA90

Transfers to Provide for Satisfaction of Contested Liabilities; Correction

AGENCY: Internal Revenue Service (IRS), Treasury.

ACTION: Correcting amendment.

SUMMARY: This document contains corrections to final regulations (TD 9140), which was published in the Federal Register on July 20, 2004 (69 FR 43302). The document contains final regulations relating to transfers of money or other property to provide for the satisfaction of contested liabilities.

DATES: This correction is effective on July 20, 2004.

FOR FURTHER INFORMATION CONTACT: Norma Rotunno, (202) 622-7900(not a toll-free number).

SUPPLEMENTARY INFORMATION:

Background

The final regulations (TD 9140) that is the subject of this correction are under section 461 of the Internal Revenue Code.

Need for Correction

As published, (TD 9140) contains an error that may prove to be misleading and is in need of clarification.

List of Subjects in 26 CFR Part 1

Income taxes, Reporting and recordkeeping requirements.

Correction of Publication

Accordingly, 26 CFR part 1 is corrected by making the following correcting amendment:

PART 1—INCOME TAXES

Paragraph 1. The authority citation for part 1 continues to read in part as follows:

Authority: 26 U.S.C. 7805 * * *

Par. 2. Section 1.461-2T is removed.

LaNita Van Dyke,
Acting Chief, Publications and Regulations Branch, Legal Processing Division, Associate Chief Counsel (Procedures and Administration).

[FR Doc. 04-18561 Filed 8-12-04; 8:45 am]

BILLING CODE 4830-01-P